Title 3—

The President

Memorandum of February 27, 2023

Presidential Waiver of Statutory Requirements Pursuant to Section 303 of the Defense Production Act of 1950, as Amended, on Department of Defense Supply Chains Resilience

Memorandum for the Secretary of Defense

By the authority vested in me as President by the Constitution and the laws of the United States of America, including section 303 of the Defense Production Act of 1950, as amended (the “Act”) (50 U.S.C. 4533), I hereby determine, pursuant to section 303(a)(7)(B) of the Act, that action is necessary to avert shortfalls in critical Department of Defense supply chains that would severely impair national defense capability. Therefore, I waive the requirements of section 303(a)(1)-(a)(6) of the Act for supply chains enumerated in the June 2021 White House report titled “Building Resilient Supply Chains, Revitalizing American Manufacturing, and Fostering Broad-Based Growth: 100-Day Reviews Under Executive Order 14017” and the February 2022 Department of Defense report titled “Securing Defense-Critical Supply Chains: An Action Plan Developed in Response to President Biden's Executive Order 14017,” specifically for defense organic industrial base supply chains critical to the Department of Defense and critical supply chains for electronics, kinetic capabilities, castings and forgings, minerals and materials, and power and energy storage.

Ensuring a robust, resilient, and sustainable domestic industrial base is essential to our national security and the preservation of domestic critical infrastructure.

You are authorized and directed to publish this memorandum in the Federal Register.

THE WHITE HOUSE,

Washington, February 27, 2023

[FR Doc. 2023-04421

Filed 3-1-23; 8:45 am]

Billing code 5001-06-P